DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility to Apply for Trade Adjustment

10/1/2008 through 10/31/2008

Firm | Address | Date accepted for filing | Products
CCI Enterprises, Inc. | 5285 SE Mallard Way, Milwaukie, OR 97222 | 10/27/2008 | Brake cable assemblies for heavy truck air brake systems.
Woodcraft Industries, Inc. | 253 Benner Pike, State College, PA 16801 | 10/28/2008 | Unfinished furniture in various species of wood, styles and categories.
Norco Industries, Inc. | 365 W. Victoria St., Compton, CA 90220 | 10/29/2008 | Industrial components and devices, specializing in jacks for RVs.
Infinite Graphics Incorporated | 4611 East Lake Street, Minneapolis, MN 55406-2305 | 10/17/2008 | Precise digitally photo-plotted plates, film and masks used for printed circuit, and other manufacturing.
West Point Foundry and Machine Co., Inc. | 2021 Stateline Road, West Point, GA 31833 | 10/21/2008 | Textile machinery.
K.B. Pizza Company, Inc. | 191 Howard Street, Franklin, PA 16323 | 10/8/2008 | Pizza, pizza dough and crust.
Gulf Packing Co. | P.O. Box 357, San Benito, TX 78586 | 10/22/2008 | Processed uncooked beef for human consumption.
Roper Whitney of Rockford Inc | 2833 Huffman Blvd, Rockford, IL 61103-3990 | 10/27/2008 | Sheet metal fabricating machinery.
Seiler Plastics Corp. | 9727 Green Park Industrial, St. Louis, MO 63123-7241 | 10/27/2008 | Plastic extrusions, tubing, sheet products and thermoforming.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: November 4, 2008.
William P. Kittredge,
Program Officer for TAA.

[FR Doc. E8-26693 Filed 11-7-08; 8:45 am]

BILLING CODE 3510-24-P